RAILROAD RETIREMENT BOARD

Computer Matching and Privacy Protection Act of 1988; Report of Matching Program: RRB and State Agencies

AGENCY: U.S. Railroad Retirement Board (RRB).

ACTION: Notice of a renewal of an existing computer matching program due to expire on February 10, 2015.

SUMMARY: The Privacy Act, as amended, requires the RRB to issue a public notice of its use and intent to use, information obtained from state agencies in ongoing computer matching programs regarding individuals who received benefits under the Railroad Unemployment Insurance Act.

The information received through the computer matching programs may consist of either: (1) A report of unemployment or sickness payments made by the state for the same period that benefits were paid by the RRB, or (2) a report of wages paid to an individual, and the names and addresses of employers who reported those wages to the state for the same period that benefits were paid by the RRB.

The purpose of this notice is to advise individuals applying for or receiving benefits under the Railroad Unemployment Insurance Act of the use made by the RRB of the information obtained from state agencies by means of a computer match.

DATES: Submit comments on or before March 2, 2015.

ADDRESSES: Address any comments concerning this notice in writing to the Secretary to the Board, U.S. Railroad Retirement Board, 844 North Rush Street, Chicago, Illinois 60611-2092.

FOR FURTHER INFORMATION CONTACT: Mr. Timothy S. Grant, Chief Privacy Officer, U.S. Railroad Retirement Board, 844 North Rush Street, Attn: BIS-IRMC, Chicago, Illinois 60611-2092.

SUPPLEMENTARY INFORMATION:

A. General

The Computer Matching and Privacy Protection Act of 1988 (Pub. L. 100-503), amended the Privacy Act (5 U.S.C. 552a) by describing the conditions under which computer matching involving the Federal government could be performed, and by adding certain protections for persons applying for, and receiving, Federal benefits. Section 7201 of the Omnibus Budget Reconciliation Act of 1990 (Pub. L. 101-508) further amended the Privacy Act regarding protection for such persons.

The Privacy Act, as amended, regulates the use of computer matching by Federal agencies when matching records in a system of records with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish reports about matching programs to Congress and Office of Management and Budget;

(5) Notify beneficiaries and applicants that their records are subject to matching; and

(6) Verify match findings before reducing, suspending, terminating, or denying a person's benefits or payments.

B. RRB Computer Matches Subject to the Privacy Act

We have taken action to ensure that all of our computer matching programs comply with the requirements of the Privacy Act, as amended.

C. Notice of Computer Matching Program: RRB With State Agencies

1. Name of Participating Agencies: The Railroad Retirement Board and agencies of all 50 states which provide unemployment or sickness benefits.

2. Purpose of the Match: To identify individuals who have improperly collected benefits provided by the RRB under the Railroad Unemployment Insurance Act while earning remuneration in non-railroad employment or while collecting unemployment or sickness benefits paid by a state agency.

3. Authority for Conducting the Match: The Social Security Act (42 U.S.C. 503(c)(1)), and Railroad Unemployment Insurance Act (45 U.S.C. 231f(b) and 362(f)). Disclosures under this agreement are made in accordance with the Privacy Act, as amended (5 U.S.C. 552a(b)(3)) and in compliance with the matching procedures in the Privacy Act (5 U.S.C. 552a(o), (p), and (r)).

4. Categories of Records and Individuals Covered: All recipients of benefits under the Railroad Unemployment Insurance Act during a given period who reside in the states with which the RRB has negotiated a computer matching program agreement. Records furnished by the states are covered under Privacy Act system of records RRB-21, Railroad Unemployment and Sickness Insurance Benefit System, which was published in the Federal Register (FR) on July 26, 2010 (75 FR 43725).

5. Inclusive Dates of the Matching Program: This computer matching program is effective February 10, 2015 through August 10, 2017. Before becoming effective the following notice periods must have lapsed: 30 days after publication in the Federal Register and 40 days after notice of the matching program sent to Congress and OMB. The computer matching program is valid for 18 months from the effective date and, if both agencies meet certain conditions, the RRB may grant a one-time extension of another 12 months. The number of matches conducted with each state during the period of the match will vary from state to state, depending on whether the computer matching agreement provides for matches to be conducted quarterly or every six months.

6. Procedure: The RRB will furnish the state agency a file of records. The data elements will consist of beneficiary identifying information, such as name and Social Security Number (SSN), as well as the overall period during which the individual received benefits under the Railroad Unemployment Insurance Act. The state agency will match the identifying information.

If the matching operation reveals that the individual who had received benefits under the Railroad Unemployment Insurance Act also received either unemployment or sickness insurance benefits from the state for any days in the period, the state agency will notify the RRB. Depending on arrangements made between the two jurisdictions, and, in the case of state sickness benefits, on the applicable state law, either the RRB or the state agency will attempt to recover the amount of the duplicate payments.

If the matching operation reveals that wages had been reported for the individual during the requested period, the state will notify the RRB of this fact and furnish a breakdown of the wages, as well as the name and address of each employer who reported earnings for the individual. The RRB will then contact each employer who reported earnings for the individual for the given period. Only if the employment is verified will the RRB take action to recover the overpayment. If the RRB benefits had been paid under the Railroad Unemployment Insurance Act, recovery is limited to payments made for those days on which the individual was gainfully employed.

7. Other information: The notice we are giving here is in addition to any individual notice. We will file a report with the Committee on Homeland Security and Governmental Affairs of the Senate, the Committee on Oversight and Government Reform of the House of Representatives, and the Office of Information and Regulatory Affairs, Office of Management and Budget (OMB).

Dated: January 13, 2015.
By authority of the Board.
Martha P. Rico,
Secretary to the Board.

[FR Doc. 2015-00663 Filed 1-16-15; 8:45 am]

BILLING CODE P